DEPARTMENT OF VETERANS AFFAIRS

[OMB Control No. 2900—New (Dynamics of Unemployment in (20-24) Young Veterans]

Agency Information Collection Activities Under OMB Review

AGENCY: Office of Policy, Planning and Preparedness, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information for the Veterans' Disability Benefits Commission as abstracted below to the Office of Management and Budget (OMB) for review and comment. The PRA submission describes the nature of the information collection and its expected cost and burden; it includes the actual data collection instrument.

DATES: Comments must be submitted on or before January 22, 2007.

ADDRESSES: Submit written comments on the collection of information through www.Regulations.gov; or to VA's OMB Desk Officer, OMB Human Resources and Housing Branch, New Executive Office Building, Room 10235, Washington, DC 20503, (202) 395-7316. Please refer to “OMB Control No. 2900—New (Dynamics of Unemployment in (20-24) Young Veterans)” in any correspondence.

FOR FURTHER INFORMATION CONTACT: Denise McLamb, Initiative Coordination Service (005G1), Department of Veterans Affairs, 810 Vermont Avenue, NW., Washington, DC 20420, (202) 565-8374, fax (202) 565-7870 or e-mail denise.mclamb@mail.va.gov. Please refer to “OMB Control No. 2900—New (Dynamics of Unemployment in (20-24) Young Veterans).”

SUPPLEMENTARY INFORMATION: Title: Dynamics of Unemployment in Young (20-24) Veterans.

OMB Control Number: 2900—New (Dynamics of Unemployment in (20-24) Young Veterans).

Type of Review: Extension of a currently approved collection.

Abstract: The purpose of the study is to obtain information on the unemployment dynamics among young veterans (ages 20-24) recently discharged. The data includes recent employment history; occupation; income; job-seeking; experience with training, education, and employment assistance; and education. The study is a telephone survey with a representative sample, with half from regular service and half from activated reserve components. Survey items are largely from existing National surveys, such as the Current Population Survey or its Veteran Supplement, National Longitudinal Survey of Youth, National Survey of Veterans, and the Survey of Income and Program Participation.

An agency may not conduct or sponsor, and a person is not required to respond to a collection of information unless it displays a currently valid OMB control number. The Federal Register Notice with a 60-day comment period soliciting comments on this collection of information was published on September 14, 2006, at page 54342.

Affected Public: Individuals or households.

Estimated Time per Respondent and Annual Burden: 667 hours.

Estimated Average Burden per Respondent: 20 minutes.

Frequency of Response: One-time.

Estimated Number of Respondents: 2,000.

Dated: December 11, 2006.
By direction of the Secretary.
Cindy Stewart,
Program Analyst Initiative Coordination Service.

[FR Doc. E6-21776 Filed 12-20-06; 8:45 am]

BILLING CODE 8320-01-P